NATIONAL FOUNDATION ON THE ARTS AND HUMANITIES

Institute of Museum and Library Services; Proposed Collection, Comment Request, User Satisfaction With Access to Government Information and Services at Public Libraries and Public Access Computing Centers

ACTION: Notice.

SUMMARY: The Institute of Museum and Library Services as part of its continuing effort to reduce paperwork and respondent burden, conducts a pre-clearance consultation program to provide the general public and Federal agencies with an opportunity to comment on proposed and/or continuing collections of information in accordance with the Paperwork Reduction of 1995 (PRA95) [44 U.S.C. 3508(2)(a)]. This program helps to ensure that requested data can be provided in the desired format, reporting burden (time and financial resources) is minimized, collection instruments are clearly understood, and the impact of collection requirements on respondents can be properly assessed. Currently the Institute of Museum and Library Services is soliciting comments concerning a survey to assess user satisfaction with access to government information and services at public libraries and public access computing centers.

A copy of the proposed information collection request can be obtained by contacting the individual listed below in the addressee section of this notice.

DATES: Written comments must be submitted to the office listed in the addressee section below on or before June 12, 2006.

IMLS is particularly interested in comments that help the agency to:

• Evaluate whether the proposed collection of information is necessary for the proper performance of the functions of the agency, including whether the information will have practical utility;

• Evaluate the accuracy of the agency's estimate of the burden of the proposed collocation of information including the validity of the methodology and assumptions used:

• Enhance the quality, utility and clarity of the information to be collected; and

• Minimize the burden of the collection of information on those who are to respond, including through the use of appropriate automated electronic, mechanical, or other technological collection techniques or other forms of information technology, e.g., permitting electronic submissions of responses.

ADDRESSES: Send comments to: Rebecca Danvers, PhD, Director of Research and Technology, Institute of Museum and Library Services, 1800 M St., NW., 9th floor, Washington, DC 20036, telephone: 202-653-4680, fax: 202-653-4625 or by e-mail at rdanvers@imls.gov.

SUPPLEMENTARY INFORMATION:

I. Background

The Institute of Museum and Library Servicdes is an independent Federal grant-making agency authorized by the Museum and Library Services Act, 20 U.S.C. 9101, et seq. The IMLS provides a variety of grant programs to assist the nation's museums and libraries in improving their operations and enhancing their services to the public. Museums and libraries of all sizes and types may receive support from IMLS programs. This solicitation is to collect information via surveys on how satisfied the national public is in finding government information and what type of programs public libraries and community technology centers provide to help users.

II. Current Action

The core duties of the Institute of Museum and Library Services, as stated in its strategic plan, are to promote excellence in library services and to promote access to museum and library services for a diverse public. The E-Government Act of 2002 called for the promotion of access to the Internet to provide increased opportunities for citizen participation in government, and an interagency committee issued a report looking at disparities in Internet access across a demographic spectrum. Few studies, however, have looked at the kinds of assistance (training, tutorials, classes, reference services) that users are receiving when looking for federal, state, and local government information and services, whether via the Internet or through traditional means (walk-in, mail, telephone), and whether users are satisfied with the assistance that they are receiving from public libraries and public access computing centers. In order to address this critical information gap and to enhance the quality of library services nationwide, the Institute of Museum and Library Services (IMLS) has undertaken a study to better understand how users are accessing federal, state, and local government information and services and what kinds of assistance public libraries and other public access computing centers are offering to users seeking government information and services. IMLS is conducting a research study on how the part of the population with limited access to Internet resources (individuals who do not have broadband access from home, work, or school; who choose to access government services and information from locations other than home, work, or school; or who do so through traditional means of access) accesses federal, state and local government services and information, and whether such users are satisfied with the information and services they are able to access. Additionally, the study examines the ways that public libraries and public access computing centers provide assistance (e.g., reference services, tutorials, classes, training) to users seeking federal, state, and local government information and services.

Agency: Institute of Museum and Library Services.

Title: National Study of Users and Potential Users of Online Information.

OMB Number: n/a.

Agency Number: 3137.

Frequency: On time.

Affected Public: User Satisfaction with Access to Government Information and Services at Public Libraries and Public Access Computing Centers.

Number of Respondents: 5,700.

Estimated Time per Respondent: 15 or 20 minutes.

Total Burden Hours: 1630.

Total Annualized Capital/Startup Costs: 0.

Total Annual Costs: $40,792.

Contact: Rebecca Danvers, PhD, Director of Research and Technology, Institute of Museum and Library Services, 1800 M St., NW., 9th floor, Washington, DC 20036, telephone: 202-653-4680, fax: 202-653-4625 or by e-mail at rdanvers@imls.gov.

Dated: April 7, 2006.
Rebecca W. Danvers,
Director, Office of Research and Technology.

[FR Doc. 06-3487 Filed 4-11-06; 8:45 am]

BILLING CODE 7036-01-M